DEPARTMENT OF AGRICULTURE

Forest Service

Information Collection; Special Use Administration

AGENCY: Forest Service, Agriculture (USDA).

ACTION: Notice; request for comment.

SUMMARY: In accordance with the Paperwork Reduction Act of 1995, the Forest Service (Forest Service or Agency) is requesting comment on reapproval and proposed revisions of an approved information collection request (ICR), 0596-0082, Special Use Administration.

DATES: Comments on reapproval and the proposed revisions of the ICR must be received in writing by December 9, 2024.

ADDRESSES: Comments may be sent to Director, Lands, Minerals, and Geology staff, 201 14th Street SW, Washington, DC 20250-1124, or may be submitted to https://www.regulations.gov. Comments submitted in response to this notice will be available to the public through the relevant website and upon request. Therefore, do not include confidential information, such as sensitive personal or proprietary information. Email addresses associated with comments will be included as part of the comment that is made publicly available online.

The public may inspect the supporting documents for the ICR and comments received at the Office of the Director, Lands, Minerals, and Geology staff, 1st Floor Southeast, Sidney R. Yates Federal Building, 201 14th Street SW, Washington, DC, on business days between 8:30 a.m. and 4 p.m. Visitors are encouraged to call ahead at 202-205-0444 to facilitate entry into the building. The public may request an electronic copy of the supporting documents via return email. Requests should be emailed to sm.fs.SU_forms@usda.gov. The ICR, including the proposed revisions, is posted at https://usfs-public.box.com/s/bd84lkk0sxeenfoiq9f00eef2wbh8q6t.

FOR FURTHER INFORMATION CONTACT: Sadie Wehunt, National Assistant Recreation Special Uses Program Manager, Recreation, Heritage, and Volunteer Resources staff, at sadie.wehunt@usda.gov or 406-249-7894 or Nick Szuch, Communications Use Specialist, Lands, Minerals, and Geology staff, at nicholas.szuch@usda.gov or 970-589-5231. Individuals who use telecommunication devices for the hearing-impaired may call 711 to reach the Telecommunications Relay Service, 24 hours a day, every day of the year, including holidays.

SUPPLEMENTARY INFORMATION:

Title: Special Uses Administration.

OMB Number: 0596-0082.

Expiration Date of Approval: December 31, 2024.

Type of Request: Reapproval and proposed revisions of an approved ICR.

Abstract: The Forest Service manages approximately 193 million acres of Federal lands, known as National Forest System (NFS) lands. Several statutes authorize the Forest Service to issue and administer special use authorizations for use and occupancy of NFS lands and to collect information from the public for those purposes, including but not limited to the Organic Administration Act of 1897 (16 U.S.C. 551); Title V of the Federal Land Policy and Management Act of 1976 (FLPMA, 43 U.S.C. 1761-1772); Term Permit Act of March 4, 1915 (16 U.S.C. 497); National Forest Ski Area Permit Act (16 U.S.C. 497b); section 28 of the Mineral Leasing Act (30 U.S.C. 185); National Forest Roads and Trails Act (FRTA, 16 U.S.C. 532-538); section 7 of the Granger-Thye Act (16 U.S.C. 480d); Act of May 26, 2000 (16 U.S.C. 460l-6d); Federal Lands Recreation Enhancement Act (16 U.S.C. 6801-6814); Archaeological Resources Protection Act of October 31, 1979 (16 U.S.C. 1996); and section 111 of the National Historic Preservation Act (54 U.S.C. 306121). Forest Service regulations implementing these authorities at 36 CFR part 251, subpart B, require collection of information, including submission of special use applications, execution of special use authorization forms, and imposition of terms that require submission of information. Uses authorized on NFS lands include a variety of activities, facilities, and improvements such as recreation residences, apiaries, domestic water supply conveyance systems, road rights-of-way, powerline facilities, communications uses, outfitting and guiding, campground concessions, resorts, ski areas, and marinas. Special use authorization forms are used to authorize these activities, facilities, and improvements on NFS lands.

Forest Service regulations at 36 CFR part 251, subpart B, require each special use authorization to contain terms that will carry out the purposes of applicable statutes and their implementing regulations; minimize damage to scenic and aesthetic values, fish and wildlife habitat, and otherwise protect the environment; require compliance with applicable air and water quality standards; and require compliance with State standards that are more stringent than Federal standards for public safety, environmental protection, and siting, construction, operation, and maintenance (36 CFR 251.56(a)(1)(i)). In addition, Forest Service regulations require each special use authorization to contain terms deemed necessary by the Agency to protect Federal property and economic interests; efficiently manage the authorized NFS lands and adjacent NFS lands; protect other lawful users of the authorized NFS lands and adjacent NFS lands; protect lives and property; protect the interests of those living in the vicinity of the authorized use who rely on the fish, wildlife, and other biotic resources of the area for subsistence; require siting to cause the least environmental damage, taking into consideration feasibility and other relevant factors; and otherwise protect the public interest (36 CFR 251.56(a)(1)(ii)).

The Forest Service uses the forms and clauses in this ICR to ensure that uses of NFS lands are administered in accordance with applicable statutes, regulations, and Agency directives. The information collected is used to evaluate applications for special uses, monitor compliance with special use authorizations, generate bills for collection of land use fees for special use authorizations, create reports for the Agency's Special Uses Program, and other matters pertaining to administration of special use authorizations.

There are six categories of information collected by this ICR:

(1) Information required from applicants to evaluate special use applications and issue special use authorizations;

(2) Information required from holders to administer their special use authorization;

(3) Annual financial information required from holders to determine annual land use fees for their special use authorization;

(4) Information required from holders to prepare and update the operating plan for their special use authorization;

(5) Information required from holders to prepare and update a road maintenance plan; and

(6) Information required from holders to complete compliance reports and informational updates.

The six categories cover the entire ICR, including special use application and special use authorization forms; cost recovery agreements; prospectus forms; reporting forms; supplemental special use authorization clauses in Forest Service Handbook 2709.11, chapter 50; and information collected other than through use of a form. These six categories demonstrate the complexity of the Special Uses Program and the importance of the ICR in administration of the program.

Category 1: The Special Use Application Process

FS-2700-3a, Request for Revocation of a Special Use Authorization, is used to facilitate issuance of a new special use authorization when there is a change in ownership of authorized improvements or a change in control of the holder of a special use authorization.

FS-2700-3b, Special Use Permit for Noncommercial Group Use, provides information used to evaluate requests to use NFS lands for noncommercial gatherings involving 75 or more people, such as a wedding or an activity involving the exercise of First Amendment rights, and to authorize such requests.

FS-2700-3c, Special Use Application and Permit for Recreation Events, is used to collect information needed to evaluate requests to use NFS lands for events involving an entry or participation fee, such as an endurance ride, and to authorize such requests.

FS-2700-3f, Special Use Application and Temporary Permit for Outfitting and Guiding, is the form used by the Forest Service to collect information and to issue temporary permits to use NFS lands for outfitting and guiding.

FS-2700-10, Technical Data Sheet for Communications Uses, is the form used by the Forest Service to collect information on and to evaluate the compatibility of communications equipment at a communications site to minimize frequency interference and other compatibility problems.

FS-2700-11, Agreement Concerning a Small Business Administration Loan for a Holder of a Special Use Permit, is the form used by the Forest Service to collect information and to enter into an agreement with a holder, a lender, and the U.S. Small Business Administration regarding a loan guaranteed by the Small Business Administration.

FS-2700-12, Agreement Concerning a Loan for a Holder of a Special Use Authorization, is the form used by the Forest Service to collect information and to enter into an agreement with a holder and a lender regarding a loan not guaranteed by the Small Business Administration.

FS-2700-30, Application for Permit for Archaeological Investigations, is the form used by the Forest Service to collect information and to evaluate the technical capability and qualifications of an applicant to conduct archaeological investigations on NFS lands.

FS-2700-33, Insurance Endorsement for a Special Use Authorization, is the form used by the Forest Service to collect information and to name the United States as an additional insured in an insurance policy issued to the holder of a special use authorization.

FS-2700-34, Prospectus for Campground and Related Granger-Thye Concessions, is the form used by the Forest Service to select the most qualified applicant to operate a campground concession through a competitive process.

Prospectuses for other types of uses are developed when there is competitive interest to select the most qualified applicant to operate other types of concessions.

FS-2700-40, Assumption of Risk, Waiver of Liability, and Indemnity Agreement for Good Samaritan Search and Recovery Missions, is the form used by the Forest Service to collect information and to provide for assumption of risk, waiver of claims against the United States, and indemnification of the United States during good Samaritan search and rescue activities.

FS-6500-24, Financial Statement, is the form used by the Forest Service to collect information on and to evaluate the financial capability of an applicant to undertake the proposed use and to comply with the terms of the special use authorization for the proposed use. This form is used primarily for applications to operate ski areas, resorts, and federally owned campgrounds on NFS lands.

FS-6500-25, Request for Verification, is the form used by the Forest Service to (1) obtain information from a financial institution to verify the financial capability of an applicant to undertake the proposed use; and (2) comply with the terms of the special use authorization for the proposed use. This form is used primarily for applications to operate ski areas, resorts, and federally owned campgrounds on NFS lands.

Category 2: Special Use Authorizations and Clauses in Directives

FS-2700-4, Special Use Permit, is the form used by the Forest Service to collect information for and to authorize a variety of uses on NFS lands not covered by another special use authorization form.

FS-2700-4b, Forest Road Special Use Permit, is the form used by the Forest Service to collect information for and to authorize under FLPMA the construction and use of an NFS road, typically to access private property within a national forest for commercial purposes such as timber hauling or noncommercial purposes such as residential use.

FS-2700-4c, Private Road Special Use Permit, is the form used by the Forest Service to collect information for and to authorize under FLPMA the construction and use of a road that is not part of the forest transportation system to access nonFederal land, a mining claim, a mineral leasing area, or other uses of NFS lands.

FS-2700-4d, Special Use Permit for a Temporary Road Covered by a Cost Share Agreement, is the form used by the Forest Service to collect information for and to authorize under FLPMA the construction, maintenance, and use of a temporary road on NFS lands covered by a cost share agreement to access private property within a national forest for commercial purposes, such as timber harvesting.

FS-2700-4h, Special Use Permit for Campground and Related Granger-Thye Concessions, is the form used by the Forest Service to collect information for and to authorize the operation and maintenance of a federally owned campground and related federally owned developed recreation sites on NFS lands.

FS-2700-4h, Appendix C, Special Use Permit for Campground and Related Granger-Thye Concessions, Granger-Thye Fee Offset Agreement, is the form used by the Forest Service to collect information regarding the Government maintenance, reconditioning, renovation, and improvement to be performed to offset the annual land use fee for a Campground and Related Granger-Thye Concessions Special Use Permit.

FS-2700-4h, Appendix G, Special Use Permit for Campground and Related Granger-Thye Concessions, Operation of Federally Owned Drinking Water Systems, is the form used by the Forest Service to collect information in connection with a campground concessioner's operation of a federally owned drinking water system.

FS-2700-4h, Appendix H, Special Use Permit for Campground and Related Granger-Thye Concessions, Granger-Thye Fee Offset Claim, is the form used by the Forest Service to collect information regarding claims for allowable costs for Government maintenance, reconditioning, renovation, and improvement for purposes of offsetting the annual land use fee for a Campground and Related Granger-Thye Concessions Special Use Permit.

FS-2700-4i, Special Use Permit for Outfitting and Guiding, is the form used by the Forest Service to collect information for and to authorize the use and occupancy of NFS lands to conduct outfitting and guiding.

FS-2700-4i, Appendix H, Special Use Permit for Outfitting and Guiding, Annual Stewardship Act Fee Offset Agreement, is the form used by the Forest Service to collect information regarding the construction, improvement, or maintenance of NFS trails, trailheads, or developed sites to be performed to offset the annual land use fee for a Special Use Permit for Outfitting and Guiding.

FS-2700-4i, Appendix I, Special Use Permit for Outfitting and Guiding, Annual Stewardship Act Fee Offset claim, is the form used by the Forest Service to collect information regarding claims for allowable costs for the construction, improvement, or maintenance of NFS trails, trailheads, or developed sites to be performed to offset the annual land use fee for a Special Use Permit for Outfitting and Guiding.

FS-2700-4j, Powerline Facility Permit for nonFederal Entities, is the form used by the Forest Service to collect information for and to authorize the use and occupancy of NFS lands by a nonFederal entity that owns and operates an electric transmission line and associated facilities.

FS-2700-4m, Special Use Permit for Archaeological Investigations, is the form used by the Forest Service to collect information for and to authorize an archaeological investigation.

FS-2700-4 Shawnee, Special Use Permit for Equestrian Outfitting in the Shawnee National Forest, is the form used by the Forest Service to collect information for and to authorize equestrian outfitting and guiding in the Shawnee National Forest.

FS-2700-5, Term Special Use Permit, is the form used by the Forest Service to collect information for and to authorize long-term use of NFS lands involving a privately owned facility.

FS-2700-5a, Term Special Use Permit for Recreation Residences, is the form used by the Forest Service to collect information for and to authorize a privately owned recreation residence on NFS lands.

FS-2700-5a Grand Island, Term Special Use Permit for Recreation Residences, is the form used by the Forest Service to collect information for and to authorize a privately owned recreation residence in the Grand Island Recreation Area.

FS-2700-5b, Ski Area Term Special Use Permit, is the form used by the Forest Service to collect information for and to authorize a ski area on NFS lands.

FS-2700-5c, Resort and Marina Term Special Use Permit, is the form used by the Forest Service to collect information for and to authorize a resort and marina on NFS lands.

FS-2700-5d, Special Use Permit, Resort Supplement for Outfitting and Guiding, is the form used by the Forest Service to collect information for and to authorize outfitting and guiding in connection with a commercial public service site on NFS lands.

FS-2700-9a, Agricultural Irrigation and Livestock Watering System Easement, is the form used by the Forest Service to collect information for and to grant an easement for an agricultural irrigation or a livestock watering system on NFS lands.

FS-2700-9d, Cost Share Easement, is the form used by the Forest Service to collect information for and to authorize under FRTA the acquisition, construction, reconstruction, maintenance, and use of an NFS road that is subject to a cost share agreement. The parties to the cost share agreement grant each other easements within the geographic area covered by the agreement. A cost share easement is for an NFS road and is subject to the cost sharing provisions of the agreement.

FS-2700-9e, Non-Cost Share Easement, is the form used by the Forest Service to collect information for and to authorize under FRTA the construction, reconstruction, maintenance, and use of a private road under a cost share agreement. The parties to the cost share agreement grant each other easements within the geographic area covered by the agreement. A non-cost share easement is for a private road (rather than an NFS road) and is not subject to the cost sharing provisions of the agreement.

FS-2700-9f, Public Road Easement, is the form used by the Forest Service to collect information for and to grant an easement under FRTA to a public road authority, such as a State or county, to construct and maintain a public road that is not part of the Federal Aid Highway System.

FS-2700-9g, Forest Road Easement, is the form is used by the Forest Service to collect information for and to grant an easement under FRTA to a party to a cost share agreement or to another nonFederal landowner who is cooperating in the acquisition, construction, or maintenance of an NFS road. The easement is for acquisition, construction or reconstruction, maintenance, and use of an NFS road that is outside the scope of a cost share agreement. At the time the easement is granted, the grantor and the grantee share the costs of acquisition, construction, and reconstruction. After the easement is granted, the grantor and the grantee share only the cost of maintenance.

FS-2700-9h, Private Road Easement, is the form used by the Forest Service to collect information for and to grant an easement under FRTA to a party to a cost share agreement or to another nonFederal landowner who is cooperating in the acquisition, construction, or maintenance of an NFS road. The easement is for construction or reconstruction, maintenance, and use of a private road that is outside the boundaries of a cost share agreement. Since the easement is for a private rather than an NFS road, the costs of constructing, reconstructing, and maintaining the road are borne by the grantee.

FS-2700-9i, Forest Road Easement, is the form used by the Forest Service to collect information for and to grant an easement under FLPMA for construction, reconstruction, maintenance, and use of an NFS road when the grantee is not a party to a cost share agreement for the acquisition, construction, and maintenance of an NFS road or when the grantee does not meet the requirements for issuance of a forest road easement under FRTA.

FS-2700-9j, Private Road Easement, is the form used by the Forest Service to collect information for and to grant an easement under FLPMA for construction, reconstruction, maintenance, and use of a private road when the grantee is not a party to a cost share agreement for the acquisition, construction, and maintenance of an NFS road or when the grantee does not meet the requirements for issuance of a private road easement under FRTA.

FS-2700-10b, Communications Use Lease, is the form used by the Forest Service to collect information for and to authorize a communications use on NFS lands.

FS-2700-13, Historic Property Lease, is the form used by the Forest Service to collect information for and to authorize leasing of an historic property under the jurisdiction of the Forest Service.

FS-2700-14, Lease for Forest Service Administrative Sites, is the form used by the Forest Service to collect information for and to authorize leasing of a Forest Service administrative site under the Forest Service Facility Realignment and Enhancement Act of 2005 or section 8623 of the Agriculture Improvement Act of 2018 (2018 Farm Bill).

FS-2700-14a, Prospectus for Leasing Administrative Sites, is the form used by the Forest Service to collect information and to solicit applications for a Forest Service administrative site lease under section 8623 of the 2018 Farm Bill or the Forest Service Facility Realignment and Enhancement Act of 2005.

FS-2700-14b, Lease for Forest Service Administrative Sites, Appendix B, In-Kind Consideration Agreement, is the form used by the Forest Service to collect information for and to agree to in-kind consideration for a Forest Service administrative site lease issued under section 8623 of the 2018 Farm Bill.

FS-2700-14c, Lease for Forest Service Administrative Sites, Appendix C, Claim for In-Kind Consideration Costs, is the form used by the Forest Service to collect information for and to approve costs claimed as in-kind consideration for a Forest Service administrative site lease issued under section 8623 of the 2018 Farm Bill.

FS-2700-23, Amendment of a Special Use Authorization, is the form used by the Forest Service to collect information for and to amend a special use authorization.

FS-2700-25, Temporary Special Use Permit, is the form used by the Forest Service to collect information for and to authorize use and occupancy of 1 year or less on NFS lands.

FS-2700-26, Category 6 Major Category Cost Recovery Agreement, is the form used by the Forest Service to collect information and cost recovery fees for a special use application or authorization involving over 50 hours to process or monitor.

FS-2700-26b, Category 5 Cost Recovery Master Agreement, is the form used by the Forest Service to collect information and cost recovery fees for a special use application or authorization involving multiple phases of development or a group of applications or similar applications for a specified geographic area.

FS-2700-27, Notice to Alaska Native Corporations Regarding Upcoming Prospectus for Visitor Services, is the form used by the Forest Service to collect information for and to provide notice to Alaska Native Corporations of the issuance of a prospectus to conduct visitor services in Conservation System Units in Alaska. Notification provides the Alaska Native Corporations a chance to request designation as a most directly affected Native Corporation for purposes of competing for the opportunity to conduct visitor services.

FS-2700-31, Powerline Facility Easement, is the form used by the Forest Service to collect information for and to grant an easement under FLPMA for a powerline facility to a nonFederal entity.

Forest Service Handbook (FSH) 2709.11, Chapter 50, is the directive that contains standard clauses that have been approved for use in special use authorizations.

Category 3: Financial Information

FS-2700-7, Annual Gross Revenue for Purposes of Annual Land Use Fee Calculation, is the form used by the Forest Service to collect information for and to determine annual land use fees based on annual gross revenue.

FS-2700-8, Annual Gross Fixed Assets for Purposes of Annual Land Use Fee Calculation, is the form used by the Forest Service to collect information for and to determine annual land use fees based on the holder's gross fixed assets.

FS-2700-10a, Facility Owner and Occupant Inventory of Communications Uses, is the form used by the Forest Service to collect information for and to determine the annual land use fees for a communications facility based on the communications uses in or on the communications facility.

FS-2700-19, Annual Land Use Fee Calculation for Concession Permits, is the form used by the Forest to collect information for and to determine the annual land use fee for commercial recreation special use permits under the Graduated Rate Fee System.

FS-2700-19a, Annual Land Use Fee Calculation for Ski Area Permits, is the form used by the Forest Service to collect information for and to determine the annual land use fee for ski area permits under the National Forest Ski Area Permit Fee Act.

FS-2700-38, Documentation of Eligibility for Financing by the Rural Utilities Service Under the Rural Electrification Act, is the form used by the Forest Service to collect information and for the Rural Utilities Service to determine eligibility for an exemption from a land use fee under the Rural Electrification Act.

Information is collected by the Forest Service from holders of a special use authorization for other purposes in connection with administration of their special use authorization. The Forest Service collects information from holders of a special use authorization regarding various business practices, such as accounting or other financial records, typically under the terms of their authorization.

Category 4: Preparing and Updating Operating Plans

Special use authorizations may contain a clause requiring the holder to prepare and update an operating plan governing day-to-day operations of the authorized use. The information collected in preparing and updating operating plans is used in specifying the procedures and policies for conducting the authorized use. Typically, operating plans contain daily operating guidelines, fire abatement and control procedures, monitoring guidelines, maintenance standards, safety and emergency plans, and inspection standards. Operating plans are usually necessary for complex operations, commercial uses, and uses conducted in environmentally sensitive areas.

Category 5: Preparing and Updating Maintenance Plans

A permit or easement issued under FLPMA or FRTA may require the holder or grantee to submit and update a road maintenance plan or information necessary for the preparation of a road maintenance plan. A road maintenance plan governs the responsibility of the holder or grantee to perform or pay for the holder's or grantee's share of maintenance costs for an NFS road.

Category 6: Compliance Reports and Information Updates

FS-2700-1, Monitoring Report for Special Uses, is the form used by the Forest Service to collect information for and to document compliance of an authorized use with the governing special use authorization.

FS-2700-6b, Recreation Residence Self-Inspection Report, is the form used by the Forest Service to collect information for and to review and record any modifications made to a recreation residence.

Compliance Reports and Information Updates. Special use authorizations may contain a clause requiring the holder to provide the Forest Service with compliance reports, other types of reports, and other information that is required by Federal law or that is required to ensure adequate protection of NFS resources or to address public health and safety concerns. Examples of compliance and information updates include dam maintenance inspection reports and logs required by the Reclamation Safety of Dams Act of 1978 and the National Dam Safety Program Act; documentation that authorized facilities passed safety inspections; documentation showing that the United States is included as an additional insured in an endorsement to an insurance policy issued to a holder; notifications involving a change in ownership of authorized improvements or a change in control of the holder; and documentation of compliance with Title VI of the Civil Rights Act of 1964.

Estimated Annual Burden: 2 burden hours per response.

Types of Respondents: Individuals, businesses, non-profit entities, and Federal and non-Federal governmental entities.

Estimated Annual Number of Respondents: 80,684.

Estimated Annual Number of Responses per Respondent: 1.

Estimated Total Annual Burden on Respondents: 77,653 hours.

Comment is requested on: (1) whether the ICR is necessary for the stated purposes and the proper performance of the functions of the Agency, including whether the information will have practical or scientific utility; (2) the accuracy of the Agency's estimate of the burden of the ICR, including the validity of the methodology and assumptions used; (3) ways to enhance the quality, utility, and clarity of the information to be collected; and (4) ways to minimize the burden of the collection of information on respondents, including the use of automated, electronic, mechanical, or other technological collection techniques or other forms of information technology.

In conjunction with reapproval of the ICR, the Forest Service is requesting comment on substantive revisions to the ICR. In particular, the Forest Service is requesting comment on 3 proposed new special use authorization forms and proposed updates of the following 34 special use authorization forms. The Forest Service is not requesting comment on any other provisions in these 34 special use authorization forms, which are not proposed for revision:

FS-2700-3c

FS-2700-3f

FS-2700-4

FS-2700-4b

FS-2700-4c

FS-2700-4d

FS-2700-4h

FS-2700-4h, Appendix C

FS-2700-4h, Appendix H

FS-2700-4i

FS-2700-4i, Appendix H

FS-2700-4i, Appendix I

FS-2700-4j

FS-2700-4 Shawnee

FS-2700-5

FS-2700-5a

FS-2700-5a Grand Island

FS-2700-5b

FS-2700-5c

FS-2700-9a

FS-2700-9d

FS-2700-9e

FS-2700-9f

FS-2700-9g

FS-2700-9h

FS- 2700-9i

FS-2700-9j

FS-2700-10b

FS-2700-10c

FS-2700-13

FS-2700-14

FS-2700-14b

FS-2700-25

FS-2700-31

The following describes the 3 proposed new special use authorization forms and the proposed revision or addition of standard clauses in the 34 special use authorization forms.

Proposed New Special Use Authorization Forms

The Forest Service is requesting public comment on 3 proposed new special use authorization forms: FS-2700-10d, Communications Use Permit for Use and Occupancy of Structures Under the Jurisdiction of the Forest Service; FS-2700-4o, Oil or Gas Pipeline Facility Permit; and FS-2700-31a, Oil or Gas Pipeline Facility Easement.

FS-2700-10d, Proposed Communications Use Permit for Use and Occupancy of Structures Under the Jurisdiction of the Forest Service

Section 7 of the Granger-Thye Act authorizes the Forest Service to issue permits to public or private entities or individuals for the use and occupancy of Federally owned structures and other improvements under the jurisdiction of the Forest Service and their underlying land. This proposed new form would standardize authorization of communications uses in or on communications facilities or improvements under the jurisdiction of the Forest Service consistent with section 7 of the Granger-Thye Act and the Agency's implementing regulations and directives, thereby enhancing efficiency, consistency, and legal and programmatic sufficiency. Currently FS-2700-4, Special Use Permit, which is generic, is used for this purpose, and clauses must be added as directed in FSH 2709.11, Chapter 50. Use of this proposed new form would not increase the burden, but rather would shift some of the burden associated with use of FS-2700-4 to use of this proposed new form.

Estimated Annual Burden: 2 burden hours per response.

Type of Respondents: Individuals, businesses, non-profit entities, and Federal and nonFederal governmental entities.

Estimated Annual Number of Respondents: 18 respondents.

Estimated Annual Number of Responses per Respondent: 1.

Estimated Total Annual Burden on Respondents: 36 hours.

Comment is requested on (1) whether the collection of information associated with the proposed new form is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

FS-2700-4o, Proposed Oil or Gas Pipeline Facility Permit

The proposed new form, FS-2700-4o, Oil or Gas Pipeline Facility Permit, would standardize issuance of permits for oil and gas pipelines and related infrastructure on NFS lands under the Mineral Leasing Act. This proposed new form would enhance efficiency, consistency, and legal and programmatic sufficiency in authorization of oil and gas infrastructure on NFS lands, consistent with the governing statute and the Agency's implementing regulations and directives. Currently FS-2700-4, Special Use Permit, which is generic, is used for this purpose, and clauses must be added as directed in FSH 2709.11, Chapter 50. Use of this proposed new form would not increase the burden, but rather would shift some of the burden associated with use of FS-2700-4 to use of this proposed new form.

Estimated Annual Burden: 2 burden hours per response.

Type of Respondents: Individuals, businesses, non-profit entities, and Federal and nonFederal governmental entities.

Estimated Annual Number of Respondents: 20 respondents.

Estimated Annual Number of Responses per Respondent: 1.

Estimated Total Annual Burden on Respondents: 40 hours.

Comment is requested on (1) whether the collection of information associated with the proposed new form is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

FS-2700-31a, Proposed Oil or Gas Pipeline Facility Easement

The proposed new form, FS-2700-31a, Oil or Gas Pipeline Facility Easement, would standardize issuance of easements for oil and gas pipelines and related infrastructure on NFS lands under the Mineral Leasing Act. This proposed new form would enhance efficiency, consistency, and legal and programmatic sufficiency in authorizing oil and gas infrastructure on NFS lands, consistent with the governing statute and the Agency's implementing regulations and directives. Currently FS-2700-4, Special Use Permit, which is generic, is used for this purpose, and clauses must be added as directed in FSH 2709.11, Chapter 50. Use of this proposed new form would not increase the burden, but rather would shift some of the burden associated with use of FS-2700-4 to use of this proposed new form.

Estimated Annual Burden: 2 burden hours per response.

Type of Respondents: Individuals, businesses, non-profit entities, and non-Federal governmental entities.

Estimated Annual Number of Respondents: 8 respondents.

Estimated Annual Number of Responses per Respondent: 1.

Estimated Total Annual Burden on Respondents: 16 hours.

Comment is requested on (1) whether the collection of information associated with the proposed new form is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

Proposed Revision or Addition of Standard Clauses in Special Use Authorization Forms

The Forest Service is proposing to remove the requirement in FS-2700-5a, Term Special Use Permit for Recreation Residences, and FS-2700-5a Grand Island, Term Special Use Permit for Recreation Residences in the Grand Island National Recreation Area, to use the authorized recreation residence at least 15 days per year. The Forest Service does not believe it is necessary or appropriate to require minimum use and occupancy of a private, noncommercial recreation residence.

The Forest Service is also proposing to remove the requirement to enter into a Granger-Thye Act fee offset agreement in FS-2700-4h, Special Use Permit for Campground and Related Granger-Thye Concessions, and clause A-20 in FSH 2709.11, Chapter 50, section 52.1, and replace it with language giving the authorized officer discretion to enter into a Granger-Thye Act fee offset agreement.

Required Standard Clauses

The Forest Service is including clause D-4, the standard Federal Survey Monuments, Corners, and Boundary Markers clause; clause X-17, the standard Archaeological and Paleontological Discoveries clause; clause X-33, the standard Relocation clause; and the standard Native American Graves Protection and Repatriation Act clause in special use authorization forms that lack those standard clauses. Per FSH 2709.11, Chapter 50, these clauses are mandatory in some special use authorizations for uses that involve ground disturbance or improvements. Adding these clauses to special use authorization forms for uses that require the clauses will enhance efficiency, consistency, and legal and programmatic sufficiency, consistent with applicable directives.

These 4 standard clauses are being added to the following special use authorization forms:

FS-2700-4

FS-2700-4b

FS-2700-4c

FS-2700-4j

FS-2700-4k

FS-2700-5

FS-2700-5a

FS-2700-5a Grand Island

FS-2700-5b

FS-2700-5c

FS-2700-9a

FS-2700-9d

FS-2700-9e

FS-2700-9f

FS-2700-9g

FS-2700-9h

FS-2700-9i

FS-2700-9j

FS-2700-10b

FS-2700-10c

FS-2700-13

FS-2700-14

FS-2700-31

Nonsubstantive Revisions That Do Not Require Public Notice and Comment

Required Minimum Wage, Paid Sick Leave, and Davis-Bacon Act Clauses

The Forest Service is including the minimum wage and paid sick leave clauses in FSH 2709.11, Chapter 50, section 52.3, clauses C-5 and C-6, in the following 15 special use authorization forms, consistent with Executive Orders 14026 and 13706 and their implementing regulations. The minimum wage and paid sick leave clauses are being added to the following special use authorization forms:

FS-2700-3c

FS-2700-3f

FS-2700-4

FS-2700-4h

FS-2700-4i

FS-2700-4j

FS-2700-4 Shawnee

FS-2700-5

FS-2700-5b

FS-2700-5c

FS-2700-10b

FS-2700-13

FS-2700-14

FS-2700-25

FS-2700-31

The Forest Service is also adding the Davis-Bacon Act, minimum wage, and paid sick leave clause in FSH 2709.11, Chapter 50, section 52.3, clause C-4, to FS-2700-4h, Appendix C; FS-2700-4i, Appendix H; and FS-2700-14b, consistent with the Davis-Bacon Act and Executive Orders 14026 and 13706 and their implementing regulations.

Lack of Authority To Include Indirect Costs for Subcontract Costs

The Forest Service is revising FS-2700-4h, Appendix H, Granger-Thye Fee Offset Claim, to clarify that while subcontract costs may be included in direct costs for purposes of offsetting the annual land use fee under section 7 of the Granger-Thye Act, indirect costs may not be included for subcontract costs for purposes of the offset per FAR 52.251-23 unless certain criteria are met, as determined by the Forest Service.

Inclusion of Dam Safety Clauses in FS-2700-5b, Term Special Use Permit for Ski Areas

The Forest Service is adding the Dam Safety clauses, clauses B-36 and B-37, as clause III.T of FS-2700-5b, Ski Area Term Special Use Permit. Per FSH 2709.11, Chapter 50, section 52.2, one of these clauses, as applicable, must be included in a special use authorization that authorizes a dam. Ski areas often have impoundments in the permit area for purposes of snowmaking. Including the clauses in FS-2700-5b will enhance efficiency, consistency, and legal and programmatic sufficiency, consistent with applicable Agency directives.

Although inclusion of the applicable dam safety clause is required in any special use authorization that authorizes a dam, the Forest Service believes that the applicable dam safety clause has not generally been included in FS-2700-5b when a dam is authorized at a ski area. Therefore, the Forest Service is accepting comment on inclusion of the dam safety clauses in FS-2700-5b.

Removal of Forms

The Forest Service is removing the following forms from the ICR. These forms are either included in a different ICR or are no longer needed for administration of the Special Uses Program.

The following forms are being removed from the ICR because they have been approved for use under a separate ICR, OMB 0596-0081:

FS-2800-22A, Application for Authorization for Paleontological Resources Research or Collection, which is used by the Forest Service to collect information for and to evaluate an application for paleontological resources research or collection.

FS-2800-22B, Authorization to Conduct Paleontological Resources Research or Collection, which is used by the Forest Service to collection information for and to establish stipulations for the performance of authorized activities related to paleontological resources research or collection.

FS-2800-22C, Paleontological Investigation Report Form, which is used by the Forest Service to collect information for and to complete a paleontological investigation report.

FS-2800-22D, Paleontological Specimen Data Form, which is used by the Forest Service to collect information regarding paleontological specimens.

The following special use authorization forms are being removed from the ICR because they are no longer needed:

Stanislaus FS-2300-1A, Tuolumne Wild and Scenic River Permit, which is used by the Forest Service to collect information for and to authorize temporary use of the Tuolumne Wild and Scenic River. This use is administered under the Forest Service's National Recreation Fee Program via the Recreation.gov website.

Stanislaus FS-2300-1B, Cherry Creek Self-Registration Permit, which is used by the Forest Service to collect information for and to authorize temporary use of the Cherry Creek River. This use is administered under the Forest Service's National Recreation Fee Program via the Recreation.gov website.

FS-2300-3e, Special Use Application and Permit for Government-Owned Buildings, which is used by the Forest Service to collect information for and to authorize noncommercial use of Federally owned facilities on NFS lands. This use is administered under the Forest Service's National Recreation Fee Program via the Recreation.gov website.

FS-2700-4h, Appendix F, Operation of Federally Owned Drinking Water Systems, duplicates FS-2700-4h, Appendix G, Special Use Permit for Campground and Related Granger-Thye Concessions, Operation of Federally Owned Drinking Water Systems.

Form W-9, Request for Taxpayer Identification Number and Certification, is an Internal Revenue Service (IRS) form, and per IRS guidance, this form is exempt from the Paperwork Reduction Act.

Forest Service Manual 2720 and FSH 2709.11, Chapters 10, 40, 50, and 90, will be revised as needed to conform with the revisions to the ICR.

All comments received in response to this notice, including names and addresses when provided, will be a matter of public record. Comments will be summarized and included in the package submitted to the Office of Management and Budget for reapproval of the ICR as revised.

Dated: October 1, 2024.
Jacqueline Emanuel,
Associate Deputy Chief, National Forest System.

[FR Doc. 2024-23216 Filed 10-7-24; 8:45 am]

BILLING CODE 3411-15-P